DEPARTMENT OF ENERGY

Federal Energy Regulatory Commission

[Project No. 3428-205]

Brown Bear II Hydro, Inc.; Notice of Application Tendered for Filing With the Commission and Establishing Procedural Schedule for Licensing and Deadline for Submission of Final Amendments

Take notice that the following hydroelectric application has been filed with the Commission and is available for public inspection.

a. Type of Application: New Major License.

b. Project No.: 3428-2050.

c. Date Filed: November 29, 2023.

d. Applicant: Brown Bear II Hydro, Inc.

e. Name of Project: Worumbo Hydroelectric Project.

f. Location: On the Androscoggin River, in Androscoggin County, Maine.

g. Filed Pursuant to: Federal Power Act, 16 U.S.C. 791(a)-825(r).

h. Applicant Contact: Matthew Nini, Brown Bear II Hydro Inc., (973) 998-8171 or email at matthew.nini@eaglecreekre.com.

i. FERC Contact: Ryan Hansen at (202) 502-8074 or email at ryan.hansen@ferc.gov. j. The application is not ready for environmental analysis at this time.

k. Project Description: The project consists of the following existing facilities: (1) an 870-foot-long concrete gravity dam with an 116-foot-long flood spillway containing four 18-foot-wide and 26-foot-high vertical lift gates and three flashboard sections including (from left to right facing downstream) a 233-foot-long ogee spillway topped by 38 2-foot-high hinged steel flashboard panels, a 167-foot-long concrete gravity section topped by 21 2-foot-high steel flashboard panels controlled by inflatable air bags, and a 349-foot-long concrete gravity section topped by 26 steel flashboard panels ranging in height from 1.5 to 1.9-foot-high controlled by inflatable air bags; (2) a reservoir with a gross storage capacity of 2,000 acre-feet and a surface area of 240 acres at the normal full-pond elevation of 98.5 feet; (3) a 337-foot-long concrete retaining wall with a top elevation of 108 feet leading to the intake structure; (4) a concrete intake structure integral with the powerhouse, containing two vertical slide gates each 33-foot-wide and 40- foot-high which are normally fully open and protected by trash racks; (5) a 105-foot-wide, 145-foot-long reinforced concrete powerhouse containing two Kaplan bulb turbines each with a generating capacity of 10.5 MW at 28.5 feet net head; (6) an approximately 30-foot-high vertical fish-lift, four vertical attraction pumps, an eight-foot-long and 8-foot-wide hopper lift tank, and a viewing room; (7) an upstream eel passage system consisting of two two-foot-wide, seven-foot-long bristled ramps, and an eel trap; (8) a downstream fish passage system consisting of three entry way gates with trashracks, a 36-inch-diameter downstream passage pipe, and a 30-foot-wide, 20-foot-long, 10-foot-deep plunge pool; (9) an 850-foot-long, approximately 80-foot wide, tailrace excavated from the downstream powerhouse wall to the State Route 125 (Canal Street) bridge, flanked by a 200-foot-long concrete retaining wall on the left and a 230-foot-long concrete training wall on the right; (10) a 3,540-foot-long, 34.5-kilovolt (kV) transmission line leading to the Central Maine Power Company's Lisbon Falls substation; and (11) appurtenant facilities. Brown Bear Hydro II Hydro, LLC has not proposed any new construction at the project. The project is operated in a run-of-river mode and average annual generation from the project is 83,911 megawatt-hours.

l. Location of the Application: In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-3428). For assistance, contact FERC at FERCOnlineSupport@ferc.gov or call toll-free, (866) 208-3676 or (202) 502-8659 (TTY).

m. You may also register online at http://www.ferc.gov/docs-filing/esubscription.asp to be notified via email of new filings and issuances related to this or other pending projects. For assistance, contact FERC Online Support.

n. Procedural Schedule: The application will be processed according to the following preliminary Hydro Licensing Schedule. The need for additional tagging and cfd modeling studies will influence the schedule below. Revisions to the schedule may be made as appropriate.

Milestone | Target date
Issue Deficiency Letter (if necessary) | December 2023.
Issue Additional Information Request (if necessary) | January 2024.
Issue Study Modification Determination | February 2024.
Notice of Acceptance/Notice of Ready for Environmental Analysis (if no studies are needed) | March 2024.
Filing of recommendations, preliminary terms and conditions, and fishway prescriptions | June 2024.

o. Final amendments to the application must be filed with the Commission no later than 30 days from the issuance date of the notice of ready for environmental analysis.

Dated: December 12, 2023.
Kimberly D. Bose,
Secretary.

[FR Doc. 2023-27750 Filed 12-15-23; 8:45 am]

BILLING CODE 6717-01-P